DEPARTMENT OF ENERGY

Federal Energy Regulatory Commission

[Project Nos. 2927-004; 2928-004]

Aquamac Corporation; Merrimac Paper Company, Inc.; Notice of Availability of Final Environmental Assessment

December 21, 2000.

In accordance with the National Environmental Policy Act of 1969 and the Federal Energy Regulatory Commission's (Commission) regulations, 18 CFR Part 380 (Order No. 486, 52 FR 47897), the Office of Energy Projects has reviewed the applications for new licenses for the Aquamac and Merrimac Hydroelectric Projects, located on the Merrimack River in the city of Lawrence, Essex County, Massachusetts, and has prepared a Multiple Project Environmental Assessment (MPEA) for the projects.

On October 15, 1999, the Commission staff issued and distributed to all parties a draft MPEA on the projects, and requested that comments be filed with the Commission within 30 days. Comments were filed and are addressed in the final MPEA.

This final MPEA contains the staff's analysis of the potential environmental impacts of the projects and concludes that licensing the projects, with appropriate environmental measures, would not constitute a major federal action that would significantly affect the quality of the human environment.

Copies of the final MPEA are available for review in the Public Reference Branch, Room 2-A, of the Commission's offices at 888 First Street, NE., Washington, DC 20426.

Linwood A. Watson, Jr.,
Acting Secretary.

[FR Doc. 00-33325 Filed 12-28-00; 8:45 am]

BILLING CODE 6717-01-M